DEPARTMENT OF ENERGY

Federal Energy Regulatory Commission

[Docket No. RM19-12-000]

Revisions to the Filing Process for Commission Forms; Notice of Change In Technical Conference

The staff-led technical conference scheduled for March 24 through 26, 2020, in the above-captioned proceeding, will no longer be an in-person technical conference. At this time, the technical conference will still proceed as scheduled, but will be accessible via webcast. A notice with additional information will be issued in this docket to provide an agenda and instructions for those who wish to participate in the technical conference.

Dated: March 13, 2020.
Nathaniel J. Davis, Sr.,
Deputy Secretary.

[FR Doc. 2020-05732 Filed 3-18-20; 8:45 am]

BILLING CODE 6717-01-P